DEPARTMENT OF TRANSPORTATION

Federal Aviation Administration

14 CFR Part 39

[Docket No. 2002-NM-290-AD]

RIN 2120-AA64

Airworthiness Directives; Israel Aircraft Industries, Ltd., Model 1121, 1121A, 1121B, 1123, 1124, and 1124A Series Airplanes

AGENCY: Federal Aviation Administration, DOT.

ACTION: Notice of proposed rulemaking (NPRM).

SUMMARY: This document proposes the adoption of a new airworthiness directive (AD) that is applicable to all Israel Aircraft Industries, Ltd., Model 1121, 1121A, 1121B, 1123, 1124, and 1124A series airplanes. This proposal would require removing the existing oxygen shutoff valve and installing a new oxygen shutoff valve. This action is necessary to prevent rapid adiabatic compression within the oxygen line between the oxygen shutoff valve and the pressure regulator due to a shutoff valve that can be opened quickly, which could result in overheating of the oxygen system, and consequent fire in the cockpit. This action is intended to address the identified unsafe condition.

DATES: Comments must be received by March 24, 2003.

ADDRESSES: Submit comments in triplicate to the Federal Aviation Administration (FAA), Transport Airplane Directorate, ANM-114, Attention: Rules Docket No. 2002-NM-290-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-290-AD” in the subject line and need not be submitted in triplicate. Comments sent via the Internet as attached electronic files must be formatted in Microsoft Word 97 for Windows or ASCII text.

The service information referenced in the proposed rule may be obtained from Gulfstream Aerospace Corporation, P.O. Box 2206, Mail Station D25, Savannah, Georgia 31402. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-290-AD.” The postcard will be date stamped and returned to the commenter.

Availability of NPRMs

Any person may obtain a copy of this NPRM by submitting a request to the FAA, Transport Airplane Directorate, ANM-114, Attention: Rules Docket No. 2002-NM-290-AD, 1601 Lind Avenue, SW., Renton, Washington 98055-4056.

Discussion

The Civil Aviation Administration of Israel (CAAI), which is the airworthiness authority for Israel, notified the FAA that an unsafe condition may exist on certain Israel Aircraft Industries, Ltd., Model 1121, 1121A, 1121B, 1123, 1124, and 1124A series airplanes. The CAAI advises that a fire occurred in the cockpit on two airplanes during taxiing, when the co-pilot turned on the oxygen system. Investigation revealed that the existing design of the oxygen system allows high-pressure oxygen into the cockpit, which is reduced at a pressure regulator located on the airframe structure adjacent to the co-pilot. If the shutoff valve is opened quickly, a rapid adiabatic compression within the oxygen line between the oxygen shutoff valve and the pressure regulator occurs. This condition, if not corrected, could result in overheating of the oxygen system, and consequent fire in the cockpit.

Other Relevant Rulemaking

The oxygen systems on certain Gulfstream Aerospace LP Model Astra SPX and 1125 Westwind Astra series airplanes are identical to those on the affected Israel Aircraft Industries, Ltd., Model 1121, 1121A, 1121B, 1123, 1124 and 1124A series airplanes. Therefore, the FAA has issued NPRM, Rules Docket 2002-NM-281-AD, to address the identified unsafe condition on certain Gulfstream Aerospace LP Model Astra SPX and 1125 Westwind Astra series airplanes as well.

Explanation of Relevant Service Information

The manufacturer has issued the following service bulletins, which describe procedures for removing the existing oxygen shutoff valve and installing a new oxygen shutoff valve:

Table—Service Bulletins
For model— | Service bulletin— | Including—
1121, 1121A, 1121B series airplanes | 1121 Commodore Jet (Israel Aircraft Industries) Service Bulletin 1121-35-024, dated September 23, 2002 | Service Bulletin Certificate of Compliance.
1123 series airplanes | 1123-Westwind (Israel Aircraft Industries) Service Bulletin 1123-35-048, dated September 23, 2002 | Service Bulletin Certificate of Compliance.
1124 and 1124A series airplanes | 1124-Westwind (Israel Aircraft Industries) Service Bulletin 1124-35-137, dated September 23, 2002 | Service Bulletin Certificate of Compliance.

Accomplishment of the actions specified in the applicable service bulletin is intended to adequately address the identified unsafe condition. The CAAI classified these service bulletins as mandatory and issued Israeli airworthiness directive 35-02-10-12, dated October 17, 2002, in order to assure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletin described previously, except as discussed below.

Differences Between Proposed AD and Israeli Airworthiness Directive

The proposed AD would differ from the parallel Israeli airworthiness directive in that it would require accomplishment of the removal and installation of the oxygen shutoff valve within 250 flight hours after the effective date of this AD. The parallel Israeli airworthiness directive recommends accomplishment of those actions within 200 flight hours. As described previously under the heading “Other Relevant Rulemaking,” we have issued NPRM, Rules Docket 2002-NM-281-AD, to address the identified unsafe condition on certain Gulfstream Aerospace LP Model Astra SPX and 1125 Westwind Astra series airplanes. The compliance time in that NPRM, which parallels Israeli airworthiness directive 35-02-07-02, dated August 18, 2002, is within 250 flight hours after the effective date of the AD. Because the identified unsafe condition in both NPRMs and the subject oxygen systems installed on the affected airplane models are identical, we have determined that the compliance time of both of these NPRMs should be the same. In light of these factors, we find a compliance time of within 250 flight hours after the effective date of this AD for completing the required actions to be warranted, in that it represents an appropriate interval of time allowable for affected airplanes to continue to operate without compromising safety. The compliance time has been coordinated and concurred with by the CAAI.

Differences Between Proposed AD and Relevant Service Bulletin

Operators should note that, although the referenced service bulletins describe procedures for completing a Service Bulletin Certificate of Compliance to record compliance with the service bulletin, this proposed AD would not require those actions.

Cost Impact

The FAA estimates that 300 Israel Aircraft Industries, Ltd., Model 1121, 1121A, 1121B, 1123, 1124, and 1124A series airplanes of U.S. registry would be affected by this proposed AD, that it would take approximately 8 work hours per airplane to accomplish the proposed actions, and that the average labor rate is $60 per work hour. Required parts would cost approximately $900 per airplane. Based on these figures, the cost impact of the proposed AD on U.S. operators is estimated to be $414,000, or $1,380 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Israel Aircraft Industries, Ltd.: Docket 2002-NM-290-AD.

Applicability: All Model 1121, 1121A, 1121B, 1123, 1124, and 1124A series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent rapid adiabatic compression within the oxygen line between the oxygen shutoff valve and the pressure regulator due to a shutoff valve that can be opened quickly, which could result in overheating of the oxygen system, and consequent fire in the cockpit, accomplish the following:

Removal and Installation of Oxygen Shutoff Valve

(a) Within 250 flight hours after the effective date of this AD, remove the existing oxygen shutoff valve and install a new oxygen shutoff valve, per the Accomplishment Instructions of the applicable service bulletin specified in the following table:

Table—Service Bulletins
For model— | Service bulletin— | Excluding—
1121, 1121A, 1121B series airplanes | 1121 Commodore Jet (Israel Aircraft Industries) Service Bulletin 1121-35-024, dated September 23, 2002 | Service Bulletin Certificate of Compliance.
1121 series airplanes | 1123-Westwind (Israel Aircraft Industries) Service Bulletin 1123-35-048, dated September 23, 2002 | Service Bulletin Certificate of Compliance.
1124 and 1124A series airplanes | 1124-Westwind (Israel Aircraft Industries) Service Bulletin 1124-35-137, dated September 23, 2002 | Service Bulletin Certificate of Compliance.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 3: The subject of this AD is addressed in Israeli airworthiness directive 35-02-10-12, dated October 17, 2002.

Issued in Renton, Washington, on February 13, 2003.
Ali Bahrami,
Acting Manager, Transport Airplane Directorate, Aircraft Certification Service.

[FR Doc. 03-4167 Filed 2-20-03; 8:45 am]

BILLING CODE 4910-13-P